DEPARTMENT OF TRANSPORTATION

Federal Aviation Administration

Notice of Release From Federal Surplus Property and Grant Assurance Obligations at Syracuse Hancock International Airport (SYR), Syracuse, New York

AGENCY: Federal Aviation Administration (FAA), DOT.

ACTION: Notice of request to release airport land.

SUMMARY: The FAA proposes to rule and invites public comment on the application for a release of approximately 8.80 acres of federally obligated airport property at Syracuse Hancock International Airport, Syracuse, New York, from both the Federal Surplus Property obligations contained in the March 21, 1977 Quitclaim Deed, and the Grant Assurance obligations. This acreage is composed of portions of three parcels that were transferred from the United States of America to the City of Syracuse under the provisions of the Federal Property and Administrative Services Act of 1949 and the Surplus Property Act of 1944. The release will allow the airport to enter into a long-term non-aeronautical lease to sanction commercial development. The proposed use of land after the release will be compatible with the airport and will not interfere with the airport or its operation.

DATES: Comments must be received on or before November 17, 2021.

FOR FURTHER INFORMATION CONTACT: Comments on this application may be submitted to Robert Costa, Federal Aviation Administration, New York Airports District Office via phone at (718) 995-5778 or at the email address Robert.Costa@faa.gov. Comments on this application may also be mailed or delivered to the FAA at the following address: Evelyn Martinez, Manager, Federal Aviation Administration, New York Airports District Office, Federal Register Comment, 1 Aviation Plaza, Jamaica, New York 11434.

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by surplus property conveyance deeds or grant agreements. The following is a brief overview of the request.

The City of Syracuse requested a release from surplus property and grant assurance obligations to allow a land-use change in use for other than aeronautical purposes of approximately 8.80 acres of airport property at Syracuse Hancock International Airport to enable mixed-use commercial development. Specifically, the release request seeks approval to allow for the permanent non-aeronautical use of the property, a long-term non-aeronautical lease to be entered into for the property; and the release of the 8.80 acres of property, transferred via the aforementioned Quitclaim Deed, from the National Emergency Use Provision (NEUP). The NEUP allows the United States of America the right to make use of the land during any national emergency as declared by the President or Congress. FAA approval of this request, with respect to the aforementioned 8.80 acres, is contingent on the Department of Defense's concurrence that the 8.80 acres is no longer required for aeronautical purposes.

The airport will retain ownership of the 8.80 acres and will receive fair market value rent for the length of the agreement. The rental income will be devoted to airport operations and capital projects. The proposed use of the property will not interfere with the airport or its operation; and will thereby, serve the interests of civil aviation.

Issued in Jamaica, New York on October 12, 2021.
Evelyn Martinez,
Manager, New York Airports District Office.

[FR Doc. 2021-22557 Filed 10-15-21; 8:45 am]

BILLING CODE 4910-13-P